DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Sanctions Enforcement, Compliance & Analysis, tel.: 202-622-2490.

SUPPLEMENTARY INFORMATION:

Electronic Availability

The SDN List and additional information concerning OFAC sanctions programs are available on OFAC's website (ofac.treasury.gov).

Notice of OFAC Action(s)

On March 11, 2024, OFAC determined that the property and interests in property subject to U.S. jurisdiction of the following persons are blocked under the relevant sanctions authority listed below.

Individuals

1. ABDULLAHI, Abdulkadir Omar (a.k.a. ABDILAHI, Abdi Xamiid Omar; a.k.a. OMAR, Abdullahi Abdul Kadir), Uganda; DOB 01 Jan 1962; POB Mandera, Kenya; nationality Kenya; Gender Male; Secondary sanctions risk: section 1(b) of Executive Order 13224, as amended by Executive Order 13886; Passport BK042853 (Kenya) (individual) [SDGT] (Linked To: AL-SHABAAB).

Designated pursuant to section 1(a)(iii)(A) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having acted or purported to act for or on behalf of, directly or indirectly, AL-SHABAAB, a person whose property and interests in property are blocked pursuant to E.O. 13224.

2. AWALE, Mohamed Jumale Ali, Langata Royal Park Lr 19952/476, Nairobi West/P.O. Box 634-00100, Nairobi, Kenya; DOB 07 Jul 1959; alt. DOB 31 Dec 1959; alt. DOB 01 Jan 1959; POB Mombasa, Kenya; nationality Somalia; alt. nationality Kenya; Gender Male; Secondary sanctions risk: section 1(b) of Executive Order 13224, as amended by Executive Order 13886; National ID No. 5964769 (Kenya) (individual) [SDGT] (Linked To: AL-SHABAAB).

Designated pursuant to section 1(a)(iii)(A) of E.O. 13224, as amended, for having acted or purported to act for or on behalf of, directly or indirectly, AL-SHABAAB, a person whose property and interests in property are blocked pursuant to E.O. 13224.

3. DINI, Faysal Yusuf (a.k.a. DIINI, Abdiaziz Yuusuf; a.k.a. DINI, Abdulaziz Youssouf; a.k.a. DINI, Abdulaziz Yusuf; a.k.a. DINI, Cabdicasiis Yusuf; a.k.a. DINI, Feisal Yussuf; a.k.a. DINI, Feyself Yusuf; a.k.a. HILOWLE, Abdiaziz Yusuf Dini; a.k.a. HILOWLE, Cabdicasis Yusuf Diini), Madena Estate, House #4, South C, Nairobi, Kenya; Djibouti; DOB 01 Jan 1971; POB Galkayo, Somalia; nationality Somalia; Gender Male; Secondary sanctions risk: section 1(b) of Executive Order 13224, as amended by Executive Order 13886; Passport 19RF00115 (Djibouti) expires 13 Nov 2022 (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224.

4. HAYDAR, Farhan Hussein (a.k.a. HAIDER, Farhan Hussein), Somalia; South C, Monari Estate House No. 101, Nairobi, Kenya; DOB 1986; nationality Kenya; Gender Male; Secondary sanctions risk: section 1(b) of Executive Order 13224, as amended by Executive Order 13886; National ID No. 27478723 (Kenya) (individual) [SDGT] (Linked To: AL-SHABAAB).

Designated pursuant to section 1(a)(iii)(A) of E.O. 13224, as amended, for having acted or purported to act for or on behalf of, directly or indirectly, AL-SHABAAB, a person whose property and interests in property are blocked pursuant to E.O. 13224.

5. HILOWLE, Omar Sheikh Ali, Uganda; DOB 1981; nationality Somalia; Gender Male; Secondary sanctions risk: section 1(b) of Executive Order 13224, as amended by Executive Order 13886; Passport P00238720 (Somalia); Tax ID No. 1010041103 (Somalia) (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224.

6. MAHAMED, Hassan Abdirahman, Helsinki, Finland; DOB 23 May 1987; nationality Somalia; Gender Male; Secondary sanctions risk: section 1(b) of Executive Order 13224, as amended by Executive Order 13886 (individual) [SDGT] (Linked To: HALEEL COMMODITIES L.L.C.).

Designated pursuant to section 1(a)(iii)(C) of E.O. 13224, as amended, for having materially assisted, sponsored, or provided financial, material, or technological support for, or goods or services to or in support of, HALEEL COMMODITIES L.L.C., a person whose property and interests in property are blocked pursuant to E.O. 13224, as amended.

7. MOHAMED, Abdikarin Farah (a.k.a. MUHAMMAD, Abdul Karim Farge), United Arab Emirates; Somalia; DOB 13 Sep 1993; nationality Somalia; Gender Male; Secondary sanctions risk: section 1(b) of Executive Order 13224, as amended by Executive Order 13886; Passport P00689508 (Somalia) (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224.

8. ROBEL, Mohammed Artan (a.k.a. ROBLE, Mohammed Artan), United Arab Emirates; DOB 12 Jul 1964; nationality Sweden; Gender Male; Secondary sanctions risk: section 1(b) of Executive Order 13224, as amended by Executive Order 13886 (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224.

Entities

1. CROWN BUS SERVICES LIMITED (a.k.a. CROWN BUS SERVICES LTD), Plot LR No. 4275/67, The Office Park, Riverside Drive, Nairobi, Kenya; Secondary sanctions risk: section 1(b) of Executive Order 13224, as amended by Executive Order 13886; Registration Number C110486 (Kenya) [SDGT] (Linked To: AWALE, Mohamed Jumale Ali).

Designated pursuant to section 1(a)(iii)(A) of E.O. 13224, as amended, for being owned, controlled, or directed by, directly or indirectly, MOHAMED JUMALE ALI AWALE, a person whose property and interests in property are blocked pursuant to E.O. 13224, as amended.

2. HALEEL COMMODITIES L.L.C. (a.k.a. “HALEEL GROUP”), Office 601-A, P.O. Box 172532, Deira Twin Tower, Baniyas Road, Dubai, United Arab Emirates; Makkah Almukarramah Ave. 3, Mogadishu, Somalia; website http://haleelcommodities.com; alt. website www.haleel.co; Secondary sanctions risk: section 1(b) of Executive Order 13224, as amended by Executive Order 13886; Commercial Registry Number 1052074 (United Arab Emirates); Certificate of Incorporation Number SCCI/1260/19 (Somalia); License 632562 (United Arab Emirates); Chamber of Commerce Number 178704 (United Arab Emirates) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224.

3. HALEEL COMMODITIES LIMITED, Starehe, Starehe District, Nairobi, Kenya; Secondary sanctions risk: section 1(b) of Executive Order 13224, as amended by Executive Order 13886; Organization Established Date 30 Jan 2017; Trade License No. PVTAAABNC3 (Kenya) [SDGT] (Linked To: AWALE, Mohamed Jumale Ali).

Designated pursuant to section 1(a)(iii)(A) of E.O. 13224, as amended, for being owned, controlled, or directed by, directly or indirectly, MOHAMED JUMALE ALI AWALE, a person whose property and interests in property are blocked pursuant to E.O. 13224, as amended.

4. HALEEL COMMODITIES LTD (a.k.a. HALEEL COMMODITIES LIMITED), King Fahad Plaza, Kampala, Uganda; Secondary sanctions risk: section 1(b) of Executive Order 13224, as amended by Executive Order 13886; Organization Established Date 25 Apr 2016; Company Number 80010001140329/220184 (Uganda) [SDGT] (Linked To: HAYDAR, Farhan Hussein).

Designated pursuant to section 1(a)(iii)(A) of E.O. 13224, as amended, for being owned, controlled, or directed by, directly or indirectly, FARHAN HUSSEIN HAYDAR, a person whose property and interests in property are blocked pursuant to E.O. 13224, as amended.

5. HALEEL FINANCE LTD, Nicosia, Cyprus; Secondary sanctions risk: section 1(b) of Executive Order 13224, as amended by Executive Order 13886; Organization Established Date 15 Mar 2018; Registration Number HE381288 (Cyprus) [SDGT] (Linked To: HALEEL COMMODITIES L.L.C.).

Designated pursuant to section 1(a)(iii)(A) of E.O. 13224, as amended, for being owned, controlled, or directed by, directly or indirectly, HALEEL GROUP, a person whose property and interests in property are blocked pursuant to E.O. 13224, as amended.

6. HALEEL HOLDINGS LTD, Zena Kanther 4, Agia Triada 3035, Limassol, Cyprus; Secondary sanctions risk: section 1(b) of Executive Order 13224, as amended by Executive Order 13886; Organization Established Date 08 Nov 2017; Registration Number HE375900 (Cyprus) [SDGT] (Linked To: HALEEL COMMODITIES L.L.C.).

Designated pursuant to section 1(a)(iii)(A) of E.O. 13224, as amended, for being owned, controlled, or directed by, directly or indirectly, HALEEL GROUP, a person whose property and interests in property are blocked pursuant to E.O. 13224, as amended.

7. HALEEL LTD, Zena Kanther 4, Agia Triada 3035, Limassol, Cyprus; Secondary sanctions risk: section 1(b) of Executive Order 13224, as amended by Executive Order 13886; Organization Established Date 18 Aug 2017; Registration Number HE372894 (Cyprus) [SDGT] (Linked To: HALEEL COMMODITIES L.L.C.).

Designated pursuant to section 1(a)(iii)(A) of E.O. 13224, as amended, for being owned, controlled, or directed by, directly or indirectly, HALEEL GROUP, a person whose property and interests in property are blocked pursuant to E.O. 13224, as amended.

8. QEMAT AL NAJAH GENERAL TRADING L.L.C (a.k.a. QEMAT AL NAJAH GENERAL TRADING LTD; a.k.a. QEMAT ALNAJAH GENERAL TRADING LLC; a.k.a. QEMAT AL-NAJAH GENERAL TRADING LLC; a.k.a. QEMATAL NAJAH GENERAL TRADING LLC), Baniyas Square Road, Deira, Dubai, United Arab Emirates; Dubai Towers, 8, 14 Road, 8 Floor, Office 805, Al Rigga, P.O. Box 95871, Dubai, United Arab Emirates; Al Maktoum Road, Baniyas Square, Dubai Tower, Deira, Dubai, United Arab Emirates; Secondary sanctions risk: section 1(b) of Executive Order 13224, as amended by Executive Order 13886; Organization Established Date 03 Apr 2012; Organization Type: Non-specialized wholesale trade; Commercial Registry Number 1096167 (United Arab Emirates); License 668354 (United Arab Emirates); Chamber of Commerce Number 203853 (United Arab Emirates) [SDGT] (Linked To: AL-SHABAAB).

Designated pursuant to section 1(a)(iii)(A) of E.O. 13224, as amended, for having acted or purported to act for or on behalf of, directly or indirectly, AL-SHABAAB, a person whose property and interests in property are blocked pursuant to E.O. 13224.

Dated: March 11, 2024.
Bradley T. Smith,
Director, Office of Foreign Assets Control, U.S. Department of the Treasury.

[FR Doc. 2024-05953 Filed 3-20-24; 8:45 am]

BILLING CODE 4810-AL-P